DEPARTMENT OF COMMERCE

National Oceanic and Atmospheric Administration

RIN 0648-XX69

Marine Mammals; File Nos. 10018, 13846, 14451, 14585, 14599, 14122, 14296, and 14353

AGENCY: National Marine Fisheries Service (NMFS), National Oceanic and Atmospheric Administration (NOAA), Commerce.

ACTION: Notice; issuance of permits.

SUMMARY: Notice is hereby given that NMFS has issued seven permits and one permit amendment to conduct research on marine mammals. See SUPPLEMENTARY INFORMATION for additional information regarding permittees.

ADDRESSES: The permits and related documents are available for review upon written request or by appointment in the following offices: See SUPPLEMENTARY INFORMATION.

FOR FURTHER INFORMATION CONTACT: The following Analysts at (301)713-2289: For File No. 10018: Carrie Hubard or Kristy Beard; File No. 13846: Amy Hapeman or Kristy Beard; File No. 14451: Kate Swails or Kristy Beard; File No. 14585: Amy Hapeman or Kristy Beard; File No. 14599: Amy Sloan or Kristy Beard; File No. 14122: Amy Sloan or Kristy Beard; File No. 14296: Kristy Beard or Jennifer Skidmore; File No. 14353: Carrie Hubard or Kristy Beard.

SUPPLEMENTARY INFORMATION: On November 12, 2009, notice was published in the Federal Register (74 FR 58243) that requests for permits and an amendment to a permit to conduct scientific research on marine mammals had been submitted by the above-named applicants. The requested permits and amendment have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226). The following summarizes each permit.

Rachel Cartwright, Ph.D. [File No. 10018], Keiki Kohola Project, 5277 West Wooley Road, Oxnard, CA 93035, was issued an amendment to Permit No. 10018, originally issued on June 18, 2008 (73 FR 36042). Permit No. 10018 authorized Dr. Cartwright to conduct humpback whale (Megaptera novaeangliae) research, consisting of photo-identification, focal follows, underwater observations, and collection of sloughed skin, in Hawaiian waters. This amendment, Permit No. 10018-01, authorizes the conduct of similar research in Alaskan waters from May through September each year. Field work will be based out of Kake, Alaska and focused primarily in Chatham Straits, Frederick Sound, Sumner Strait, Lynn Canal and Icy Strait. Humpback whales of all ages, including calves, will be harassed during surveys and the associated photo-identification, passive acoustics, and behavioral observations. Four other species of cetaceans (killer whales (Orcinus orca), Pacific white-sided dolphins (Lagenorhynchus obliquidens), and harbor (Phocoena phocoena) and Dall's porpoises (Phocoenoides dalli)) may be incidentally harassed during research. Observed killer whales will be photographed for identification purposes. The amended permit expires on June 30, 2013.

Jim Darling, Ph.D. [File No. 13846], Whale Trust, P.O. Box 384, Tofino, BC V0R2Z0, Canada, was issued a five-year permit to study humpback whales in Hawaii (primarily off west Maui) and humpback and Eastern gray (Eschrichtius robustus) whales along the coastlines of Washington and Alaska. Researchers will conduct photo-identification, passive acoustic recording, behavioral observation (by vessel, underwater and aerial), video-recording, collection of sloughed skin, photogrammetry, biopsy sampling, playback experiments, and/or suction-cup and implant tagging of target whales. Whales of all ages will be harassed during surveys with the exceptions that only juvenile and adult humpbacks will be biopsy sampled and only adult humpbacks will be tagged. In Hawaii, spinner (Stenella longirostris), pantropical spotted (S. attenuata), and bottlenose dolphins (Turisiops truncatus) and false killer whales (Pseudorca crassidens) may be incidentally harassed during research. Killer whales and Steller sea lions (Eumetopias jubatus) may be incidentally harassed in Washington or Alaskan waters during research.

Joseph Mobley, Jr. [File No. 14451], University of Hawaii at Manoa, 2528 McCarthy Mall, Honolulu, HI 96816, was issued a five-year permit to study cetaceans off the east and west coast of the United States, Hawaii, Alaska, Guam, and the Mariana Islands. Researchers will target numerous cetacean species including endangered blue whales (Balaenoptera musculus), fin whales (B. physalus), humpback whales, sei whales (B. borealis) and sperm whales (Physeter macrocephalus) during aerial and vessel surveys for photo-identification, videography, and behavioral observations.

Adam Pack, Ph.D. [File No. 14585], University of Hawaii at Hilo, 200 West Kawili St., Hilo, HI, 96720, was issued a five-year permit to study humpback whales and other cetacean species in the Eastern, Western and Central North Pacific Ocean, primarily Hawaii and Alaska. These studies include: (1) photo-identification; (2) underwater videogrammetry; (3) underwater videography; (4) passive acoustic recordings; (5) Crittercam studies; and (6) skin and blubber biopsy sampling. In addition to humpback whales, the following species may be opportunistically studied or incidentally harassed during vessel surveys: bottlenose dolphin, spinner dolphin, spotted dolphin, Risso's dolphin (Grampus griseus), false killer whale, melon-headed whale (Peponocephala electra), pygmy killer whale, rough toothed dolphin (Steno bredanensis), pilot whale (Globicephala macrorhynchus), striped dolphin (S. coeruleoalba), pygmy and dwarf sperm whales (Kogia spp.), killer whale, sperm whale, North Pacific right whale (Eubalaena japonica), fin whale, blue whale, Cuvier's beaked whale (Ziphius cavirostris), minke whale (B. acutorostrata), sei whale, Bryde's whale (B. edeni), Fraser's dolphin (Lagenodelphis hosei) and Blainville's beaked whale (Mesoplodon densirostris).

Fred A. Sharpe, Ph.D. [File No. 14599], Alaska Whale Foundation, 4739 University Way NE #1239, Seattle WA 98105, was issued a five-year permit to conduct research on humpback whales. Research will include aerial observations and vessel-based approaches to individuals for: (1) photo-identification; (2) acoustic recordings; (3) sonar profiling; (4) pole cam observations; (5) broadcasting sounds to individuals; (6) attachment of suction cup tags; (7) SCUBA observations; and (8) opportunistic collection of fecal material. The permit also authorizes opportunistic approaches to killer whales for photo-identification. The activities will be conducted annually in the waters of Southeast Alaska, primarily from mid-May to mid-October.

Jan Straley [File No. 14122], University of Alaska Southeast Sitka Campus, 1332 Seward Ave., Sitka, AK 99835, was issued a five-year permit to study large whales in Alaskan waters. Research will include vessel-based approaches: (1) to humpback whales for biological sampling, suction cup and satellite tagging and acoustic playbacks; (2) to sperm whales for biological sampling, suction cup and satellite tagging, fishing modifications, and acoustic playbacks; (3) to killer whales for biological sampling, suction cup and satellite tagging, and acoustic playbacks; (4) to gray, minke, fin, sei, blue, and North Pacific right whales for biological sampling and tagging; and (5) to incidentally harass and collect dead parts from prey including humpback, gray, minke, sei and fin whales, harbor porpoise, Dall's porpoise, Pacific white-sided dolphin, Northern fur seal (Callorhinus ursinus), Steller sea lion, and harbor seal (Phoca vitulina).

Briana Witteveen, Ph.D. [File No. 14296], University of Alaska Fairbanks, School of Fisheries and Ocean Sciences, 118 Trident Way, Kodiak, AK 99615, was issued a five-year permit to conduct scientific research on cetaceans year-round in the Gulf of Alaska, with emphasis on gray, fin, humpback, and killer whales. Takes will occur by close approach to collect photographs, recordings of vocalizations, biopsy samples, prey parts, sloughed skin, to attach suction cup tags, and to document response to acoustic deterrents. Sei, blue, minke, sperm, and right whales will be taken by close approach to collect photographs and biopsy samples. Pacific white-sided dolphins, Dall's porpoise, harbor porpoise, Steller sea lions, harbor seals, and Northern fur seals will be incidentally harassed during research activities.

Ann Zoidis [File No. 14353], Cetos Research Organization, 33 Echo Ave., Suite 5, Oakland, CA 94611, was issued a five-year permit to conduct scientific research on humpback and minke whales in Hawaiian waters. Research will occur annually from January through March. Humpback whale research will be focused in the Au'au Channel near Maui. Research activities will include photo-identification, behavioral observations, passive acoustic recording, and underwater photo/videography. Suction cup tags will be deployed on humpback whales. Minke whales will be approached for photo-identification anywhere within the main Hawaiian islands. Short-finned pilot, pygmy and dwarf sperm, pygmy killer, false killer, Cuvier's beaked, and melon-headed whales and bottlenose, Risso's, rough-toothed, spinner, and pantropical spotted dolphins will be incidentally harassed during research activities.

In compliance with the National Environmental Policy Act of 1969 (42 U.S.C. 4321 et seq.), an environmental assessment (EA) was prepared analyzing the effects of the permitted activities on the human environment. Based on the analyses in the EA, NMFS determined that issuance of the permits and amendment will not significantly impact the quality of the human environment and that preparation of an environmental impact statement was not required. That determination is documented in a Finding of No Significant Impact (FONSI), signed on July 14, 2010.

Issuance of these permits, as required by the ESA, was based on a finding that such permits: (1) were applied for in good faith; (2) will not operate to the disadvantage of such endangered species; and (3) are consistent with the purposes and policies set forth in section 2 of the ESA.

Documents may be reviewed in the following locations:

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Pacific Islands Region, NMFS, 1601 Kapiolani Blvd., Rm 1110, Honolulu, HI 96814-4700; phone (808)944-2200; fax (808)973-2941;

Northeast Region, NMFS, 55 Great Republic Drive, Gloucester, MA 01930; phone (978)281-9300; fax (978)281-9333; and

Southeast Region, NMFS, 263 13th Avenue South, Saint Petersburg, Florida 33701; phone (727)824-5312; fax (727)824-5309.

Dated: July 20, 2010.
Tammy C. Adams,
Acting Chief, Permits, Conservation and Education Division, Office of Protected Resources, National Marine Fisheries Service.

[FR Doc. 2010-18130 Filed 7-22-10; 8:45 am]

BILLING CODE 3510-22-S